DEPARTMENT OF COMMERCE

International Trade Administration

Environmental Technologies Trade Advisory Committee (ETTAC), Request for Nominations

AGENCY: International Trade Administration, DOC.

ACTION: Solicitation of Nominations for Membership to the Environmental Technologies Trade Advisory Committee (ETTAC).

SUMMARY: This notice sets forth a request for nominations to serve on the Environmental Technologies Trade Advisory Committee (ETTAC). The ETTAC was established pursuant to provisions under Title IV of the Jobs Through Trade Expansion Act, 22 U.S.C. 2151, and under the Federal Advisory Committee Act, 5 U.S.C. App. 2. ETTAC was first chartered on May 31, 1994. ETTAC serves as an advisory body to the Environmental Trade Working Group of the Trade Promotion Coordinating Committee (TPCC), reporting directly to the Secretary of Commerce in his/her capacity as Chairman of the TPCC. ETTAC advises on the development and administration of policies and programs to expand U.S. exports of environmental technologies, goods, and services.

DATES: Nominations for membership must be received on or before November 3, 2014.

ADDRESSES: Please send nominations by post, email, or fax to the attention of Maureen Hinman, Designated Federal Officer/ETTAC, Office of Energy & Environmental Industries, International Trade Administration, U.S. Department of Commerce, 1401 Constitution Avenue NW., Room 4053, Washington, DC 20230; phone 202-482-0627; email maureen.hinman@trade.gov; fax 202-482-5665. Electronic responses should be submitted in Microsoft Word format.

Nominations: The Secretary of Commerce invites nominations to ETTAC of U.S. citizens who will represent U.S. environmental goods and services companies that trade internationally, or trade associations and non-profit organizations whose members include U.S. companies that trade internationally. Companies must be at least 51 percent owned by U.S. persons. No member may represent a company that is majority-owned or controlled by a foreign government entity or foreign government entities.

Membership in a committee operating under the Federal Advisory Committee Act must be balanced in terms of economic subsector, geographic location, and company size. Committee members serve in a representative capacity and must be able to generally represent the views and interests of a certain subsector of the U.S. environmental industry. Candidates should be senior executive-level representatives from environmental technology companies, trade associations, and non-profit organizations. Members of the ETTAC must have experience in the exportation of environmental goods and/or services, including:

(1) Air pollution control and monitoring technologies;

(2) Analytic devices and services;

(3) Environmental engineering and consulting services;

(4) Financial services relevant to the environmental sector;

(5) Process and pollution prevention technologies;

(6) Solid and hazardous waste management technologies; and/or

(7) Water and wastewater treatment technologies.

Nominees will be evaluated based upon their ability to carry out the goals of the ETTAC's enabling legislation. ETTAC's current Charter is available on the internet at http://www.environment.ita.doc.gov under the tab: Advisory Committee. Appointments will be made to create a balanced Committee in terms of subsector representation, product lines, firm size, geographic area, and other criteria. Nominees must be U.S. citizens.

All appointments are made without regard to political affiliation. Members shall serve at the pleasure of the Secretary from the date of appointment to the Committee to the date on which the Committee's charter terminates (normally two years).

If you are interested in becoming a member of ETTAC, please provide the following information (2 pages maximum):

(1) Name.

(2) Title.

(3) Work phone; fax; and email address.

(4) Organization name and address, including Web site address.

(5) Short biography of nominee, including credentials and proof of U.S. citizenship (copy of birth certificate and/or U.S. passport) and a list of citizenships of foreign countries.

(6) Brief description of the organization and its business activities, including.

(7) Company size (number of employees and annual sales).

(8) Exporting experience.

(9) An affirmative statement that the nominee will be able to meet the expected time commitments of Committee work. Committee work includes (1) attending in-person committee meetings approximately four times per year, (2) undertaking additional work outside of full committee meetings including subcommittee conference calls or meetings as needed, and (3) drafting or commenting on proposed recommendations to be evaluated at Committee meetings.

Please do not send company or trade association brochures or any other information.

FOR FURTHER INFORMATION CONTACT: Ms. Maureen Hinman, Office of Energy & Environmental Industries (OEEI), International Trade Administration, Room 4053, 1401 Constitution Avenue NW., Washington, DC 20230. (Phone: 202-482-0627; Fax: 202-482-5665; email: maureen.hinman@trade.gov).

Edward A. O'Malley,
Director, Office of Energy and Environmental Industries.

[FR Doc. 2014-21117 Filed 9-4-14; 8:45 am]

BILLING CODE 3510-DR-P